DEPARTMENT OF ENERGY

Federal Energy Regulatory Commission

[Docket No. IS08-405-000]

Dixie Pipeline Company; Notice of Technical Conference

October 3, 2008.

Take notice that the Commission will convene a technical conference in the above-referenced proceeding on Thursday, October 23, 2008, at 9 a.m. (EDT), in a room to be designated at the offices of the Federal Energy Regulatory Commission, 888 First Street, NE., Washington, DC 20426.

The Commission's August 22, 2008 Order ¹ directed that a technical conference be held to address Dixie's FERC Nos. 92 and 93, which would permit batched shipping of refinery grade propylene on the Dixie pipeline.

¹ Dixie Pipeline Company, 124 FERC ¶ 61,175 (2008).

FERC conferences are accessible under section 508 of the Rehabilitation Act of 1973. For accessibility accommodations please send an e-mail to accessibility@ferc.gov or call toll free 1-866-208-3372 (voice) or (202) 208-1659 (TTY), or send a FAX to (202) 208-2106 with the required accommodations.

All parties and staff are permitted to attend. For further information please contact Jenifer Lucas at (202) 502-8362 or Jenifer.Lucas@ferc.gov.

Nathaniel J. Davis, Sr.,
Deputy Secretary.

[FR Doc. E8-24276 Filed 10-10-08; 8:45 am]

BILLING CODE 6717-01-P